DEPARTMENT OF THE INTERIOR

National Park Service

[NPS-WASO-NAGPRA-NPS0025950; PPWOCRADN0-PCU00RP14.R50000]

Notice of Inventory Completion: Binghamton University, State University of New York, Binghamton, NY

AGENCY: National Park Service, Interior.

ACTION: Notice.

SUMMARY: The Binghamton University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Binghamton University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Binghamton University at the address in this notice by September 7, 2018.

ADDRESSES: Nina M. Versaggi, Public Archaeology Facility, Binghamton University, P.O. Box 6000, Binghamton, NY 13902-6000, telephone (607) 777-478, email nversagg@binghamton.edu.

SUPPLEMENTARY INFORMATION: Notice is here given in accordance with the Native American Graves Protection and Repatriation Act (NAGPRA), 25 U.S.C. 3003, of the completion of an inventory of human remains and associated funerary objects under the control of the Binghamton University, Binghamton, NY. The human remains and associated funerary objects were removed from Comfort Site, Town of Chenango, Broome County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Binghamton University professional staff in consultation with representatives of the Cayuga Nation; Delaware Nation, Oklahoma; Delaware Tribe of Indians; Oneida Nation (previously listed as the Oneida Tribe of Indians of Wisconsin); Oneida Indian Nation (previously listed as the Oneida Nation of New York); Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Stockbridge Munsee Community, Wisconsin; Tonawanda Band of Seneca (previously listed as the Tonawanda Band of Seneca Indians of New York); and Tuscarora Nation.

History and Description of the Remains

In 1971, human remains representing a minimum of nine individuals were removed from the Comfort site in the Town of Chenango, Broome County, NY. The site was excavated by professional and avocational archeologists during construction of a rest area associated with I-81. No known individuals were identified. The 143 associated funerary objects include: 22 pieces of shell, one cord-marked unidentified body sherd, one plain unidentified body sherd, seven pieces of shell, one chert knife, seven chert waste flakes, one retouched chert flake, one Sackett corded rim sherd, four bear teeth, 20 pieces of shell, one chert waste flake, one chert chunk, 21 shell beads, one crinoid fossil bead, three copper cones, one incised rim sherd, one piece of shell, one shell bead, one piece of wood, three chert waste flakes, one chert flake, one clay pipe bowl fragment, one bone awl, two hammerstones, one chert chunk, two chert waste flakes, one retouched/utilized flake, three eroded pottery sherds, two pieces of unworked bird bone, 22 pieces of shell, one worked animal bone, and seven pieces of animal bone.

A bioarcheologist and archeologist from Binghamton University determined that the human remains were Native American. No known individuals were identified. Archaological information includes a radiocarbon date obtained from charred plant material from one burial which produced a date of A.D. 1130, plus or minus 150 years. Additional archeological information from the pottery showed that the dates could range from A.D. 1070-1400 and recent radiometric dating of material from non-burial features indicates a date range of A.D. 1250 through A.D. 1400. Historically, the Comfort site was part of the eighteenth century string of villages known as Otsiningo, an Oneida and Onondaga community that later accepted Native American refugees.

Haudenosaunee oral tradition states that, as The People of the Long House, they are affiliated culturally, spiritually, biologically, and personally to the ancestors located within their traditional aboriginal territories. This connection is also based upon cultural practices, language, and the philosophy of respect for those ancestors that have passed. This evidence supports a relationship of shared group identity which can reasonably be traced between the Oneida, Onondaga, and Tuscarora Nations and the human remains and associated funerary objects, removed from the Comfort site as this location is within the traditional aboriginal territory of the Oneida, Onondaga, and Tuscarora Nations. Similarly, the Delaware Nation, Oklahoma and the Delaware Tribe of Indians recognize that they have a territorial connection to, and cultural affiliation with, sites located in Broome County, New York.

Determinations Made by the Binghamton University

Officials of the Binghamton University have determined that:

• Pursuant to 25 U.S.C. 3001(9), the human remains described in this notice represent the physical remains of nine individuals of Native American ancestry.

• Pursuant to 25 U.S.C. 3001(3)(A), the 166 objects described in this notice are reasonably believed to have been placed with or near individual human remains at the time of death or later as part of the death rite or ceremony.

• Pursuant to 25 U.S.C. 3001(2), there is a relationship of shared group identity that can be reasonably traced between the Native American human remains and associated funerary objects and Delaware Nation, Oklahoma; Delaware Tribe of Indians; Oneida Nation (previously listed as the Oneida Tribe of Indians of Wisconsin); Oneida Indian Nation (previously listed as the Oneida Nation of New York); Onondaga Nation; and Tuscarora Nation.

Additional Requestors and Disposition

Lineal descendants or representatives of any Indian Tribe or Native Hawaiian organization not identified in this notice that wish to request transfer of control of these human remains and associated funerary objects should submit a written request with information in support of the request to Nina M. Versaggi, Public Archaeology Facility, Binghamton University, P.O. Box 6000, Binghamton, NY 13902-6000, telephone (607) 777-478, email nversagg@binghamton.edu, by September 7, 2018. After that date, if no additional requestors have come forward, transfer of control of the human remains and associated funerary objects to Delaware Nation, Oklahoma; Delaware Tribe of Indians; Oneida Nation (previously listed as the Oneida Tribe of Indians of Wisconsin); Oneida Indian Nation (previously listed as the Oneida Nation of New York); Onondaga Nation; and Tuscarora Nation may proceed.

The Binghamton University is responsible for notifying the Cayuga Nation; Delaware Nation, Oklahoma; Delaware Tribe of Indians; Oneida Nation (previously listed as the Oneida Tribe of Indians of Wisconsin); Oneida Indian Nation (previously listed as the Oneida Nation of New York); Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Stockbridge Munsee Community, Wisconsin; Tonawanda Band of Seneca (previously listed as the Tonawanda Band of Seneca Indians of New York); and Tuscarora Nation that this notice has been published.

Dated: July 9, 2018.
Melanie O'Brien,
Manager, National NAGPRA Program.

[FR Doc. 2018-16925 Filed 8-7-18; 8:45 am]

BILLING CODE 4312-52-P